DEPARTMENT OF ENERGY

Federal Energy Regulatory Commission

[Docket Nos. PF15-10-000; PF15-11-000]

NEXUS Gas Transmission, LLC, Texas Eastern Transmission, LP; Notice of Intent To Prepare an Environmental Impact Statement for the Planned Nexus Gas Transmission Project and Texas Eastern Appalachian Lease Project, Request for Comments on Environmental Issues, and Notice of Public Scoping Meetings

The staff of the Federal Energy Regulatory Commission (FERC or Commission) will prepare an environmental impact statement (EIS) that will discuss the environmental impacts of the NEXUS Gas Transmission (NEXUS) Project and Texas Eastern Appalachian Lease (TEAL) Project involving construction and operation of facilities by NEXUS Gas Transmission, LLC (NEXUS) in Ohio and Michigan and Texas Eastern Transmission, LP (Texas Eastern) in Ohio. The projects are separate, but connected, interstate natural gas transmission pipeline projects. The environmental impacts of both projects will be considered in one EIS, which will be used by the Commission in its decision-making process to determine whether the NEXUS and TEAL Projects are in the public convenience and necessity.

This notice announces the opening of the scoping process the Commission will use to gather input from the public and interested agencies on the projects. Your input will help the Commission staff determine what issues they need to evaluate in the EIS. We ¹ ask you to focus your comments on the potential environmental effects, reasonable alternatives, and measures to avoid or lessen environmental impacts. The more specific your comments, the more useful they will be. Please note that the scoping period will close on May 22, 2015.

¹ “We,” “us,” and “our” refer to the environmental staff of the Commission's Office of Energy Projects.

You may submit comments in written form or verbally. Further details on how to submit written comments are in the Public Participation section of this notice. If you sent comments on the NEXUS or TEAL Projects to the Commission before the opening of the dockets on January 9 and 26, 2015, respectively, you will need to file those comments under Docket No. PF15-10-000 or PF15-11-000 to ensure they are considered as part of this proceeding. In lieu of or in addition to sending written comments, the Commission invites you to attend any of the public scoping meetings scheduled as follows:

Date and time | Location
Tuesday April 28, 2015, 6:00 p.m | Midview Middle School, 12865 Grafton Road, Grafton, OH 44044, (404) 748-5331.
Wednesday April 29, 2015, 6:00 p.m | Wadsworth High School, 625 Broad Street, Wadsworth, OH 44281, (330) 335-1400, x5.
Thursday April 30, 2015, 6:00 p.m | Louisville High School, 1201 S. Nickelplate, Louisville, OH 44641, (330) 875-1438.
Tuesday May 5, 2015, 6:00 p.m | Tecumseh Center for the Arts, 400 North Maumee, Tecumseh, MI 49286, (517) 423-6617.
Wednesday May 6, 2015, 6:00 p.m | Swanton High School, 601 North Main Street, Swanton, OH 43558, (419) 826-3045, x1.
Thursday May 7, 2015, 6:00 p.m | Fremont Ross High School, 1100 North Street, Fremont, OH 43420, (419) 334-5434.

We will begin our sign up of speakers at 5 p.m. The scoping meetings will begin at 6 p.m. with a presentation by Commission staff on our environmental review process, after which speakers will be called. The meeting will end once all speakers have provided their comments or at 10 p.m., whichever comes first. Please note that there may be a time limit of three minutes to present comments, and speakers should structure their comments accordingly. If time limits are implemented, they will be strictly enforced to ensure that as many individuals as possible are given an opportunity to comment. The meetings are recorded by a stenographer to ensure comments are accurately recorded. Transcripts will be entered into the formal record of the Commission proceeding. The Commission will provide equal consideration to all comments received, whether filed in written form or provided verbally at the scoping meeting.

NEXUS and/or Texas Eastern representatives will be present one hour prior to the start of the scoping meetings to provide additional information about the projects and answer questions.

This notice is being sent to the Commission's current environmental mailing list for the NEXUS and TEAL Projects. State and local government representatives should notify their constituents of this planned project and encourage them to comment on their areas of concern.

If you are a landowner receiving this notice, a pipeline company representative may contact you about the acquisition of an easement to construct, operate, and maintain the planned facilities. The company would seek to negotiate a mutually acceptable agreement. However, if the Commission approves the Project, that approval conveys with it the right of eminent domain. Therefore, if easement negotiations fail to produce an agreement, the pipeline company could initiate condemnation proceedings where compensation would be determined in accordance with state law.

NEXUS and/or Texas Eastern provided landowners with a fact sheet prepared by the FERC entitled “An Interstate Natural Gas Facility On My Land? What Do I Need To Know?” This fact sheet addresses a number of typically-asked questions, including the use of eminent domain and how to participate in the Commission's proceedings. It is also available for viewing on the FERC Web site (www.ferc.gov).

Summary of the Planned Projects

NEXUS and Texas Eastern plan to construct and operate about 256 miles of interstate natural gas transmission pipeline and associated facilities in Ohio and Michigan. The general location of the NEXUS and TEAL Projects are shown in Appendix 1.²

² The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

NEXUS is proposing to construct the following Project components:

• About 200 miles of new 36-inch-diameter natural gas pipeline in Columbiana, Stark, Summit, Wayne, Medina, Loraine, Erie, Sandusky, Wood, Lucas, and Fulton counties, Ohio;

• about 50 miles of new 36-inch-diameter natural gas pipeline in Lenawee, Monroe, and Washtenaw counties, Michigan;

• about 1.2 miles of new 36-inch-diameter interconnecting pipeline ³ in Columbiana and Carroll counties, Ohio;

³ An interconnecting pipeline is a shorter pipeline that connects one natural pipeline system to another natural gas pipeline system or a customer.

• about 0.2 mile of new 30-inch diameter interconnecting pipeline in Columbiana County, Ohio;

• installation of up to130,000 horsepower (hp) of compression at four new gas turbine compressor stations, one each in Columbiana, Medina, Sandusky, and Lucas counties, Ohio;

• a total of 4 metering and regulation stations, three in Columbiana County, Ohio and one in Washtenaw County, Michigan; and

• various launchers, receivers, mainline valves, and other appurtenant facilities at assorted locations along the planned system in Ohio and Michigan.

Texas Eastern is proposing to construct the following Project components:

• About 4.5 miles of new 36-inch-diameter natural gas loop pipeline ⁴ in Monroe County, Ohio;

⁴ A loop pipeline is a pipeline that is constructed adjacent to another pipeline and is connected to it at both ends.

• one new compressor station with 18,800 hp in Columbiana County, Ohio;

• additional 9,400 hp of compression and piping modifications at one existing compressor station (Colerain Compressor Station) in Belmont County, Ohio; and

• launchers, receivers, and various piping modifications at 2 existing regulating and receiver sites in Monroe County, Ohio.

According to the applicants, the projects would provide up to 1.5 million dekatherms per day of natural gas to various markets in the U.S. Midwest and Canada. The Project would tie into existing infrastructure and include capacity on existing pipeline systems to serve customers in Ohio and Michigan, as well as customers in Illinois (the Chicago area) and Ontario, Canada (the Dawn area). If approved, NEXUS and Texas Eastern propose to commence construction in the first quarter 2017 and place facilities in service on November 1, 2017.

Land Requirements for Construction

Construction of the planned facilities would disturb about 3,200 acres of land for the pipeline and aboveground facilities. The typical construction right-of-way for pipeline facilities would be 100 feet wide, with additional workspace needed in some locations due to site-specific conditions. Following construction, the applicants would maintain about 1,600 acres for permanent operation of the Project's facilities; the remaining acreage would be restored and revert to former uses. About 60 percent of the pipeline route parallels existing utility rights-of-way. Land affected by construction but not required for operation would generally be allowed to revert to former uses.

The EIS Process

The National Environmental Policy Act (NEPA) requires the Commission to take into account the environmental impacts that could result from an action whenever it considers the issuance of a Certificate of Public Convenience and Necessity. NEPA also requires us to discover and address concerns the public may have about proposals. This process is referred to as scoping. The main goal of the scoping process is to focus the analysis in the EIS on the important environmental issues. By this notice, the Commission requests public comments on the scope of the issues to address in the EIS. We will consider all filed comments during the preparation of the EIS.

In the EIS we will discuss impacts that could occur as a result of the construction and operation of the planned projects under these general headings:

• Geology and soils;

• water resources, fisheries, and wetlands;

• vegetation and wildlife;

• migratory birds and endangered and threatened species;

• land use and cumulative impacts;

• socioeconomics;

• cultural resources;

• air quality and noise; and

• public safety.

We will also evaluate possible alternatives to the planned projects or portions of the projects, and make recommendations on how to lessen or avoid impacts on the various resource areas.

Although no formal applications have been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section beginning on page 7.

With this notice, we are asking agencies with jurisdiction by law and/or special expertise with respect to the environmental issues related to these projects to formally cooperate with us in the preparation of the EIS.⁵ Agencies that would like to request cooperating agency status should follow the instructions for filing comments provided under the Public Participation section of this notice. Currently, no agencies have expressed their intention to participate as a cooperating agency in the preparation of the EIS.

⁵ The Council on Environmental Quality regulations addressing cooperating agency responsibilities are at Title 40, Code of Federal Regulations, Part 1501.6.

Consultations Under Section 106 of the National Historic Preservation Act

In accordance with the Advisory Council on Historic Preservation's implementing regulations for section 106 of the National Historic Preservation Act, we are using this notice to initiate consultation with the Ohio and Michigan State Historic Preservation Offices (SHPO), and to solicit their views and those of other government agencies, interested Indian tribes, and the public on the Project's potential effects on historic properties.⁶ We will define the Project-specific Area of Potential Effects in consultation with the SHPOs as the Project develops. On natural gas facility projects, the Area of Potential Effects at a minimum encompasses all areas subject to ground disturbance (examples include construction right-of-way, contractor/pipe storage yards, meter stations, and access roads). Our EIS for these projects will document our findings on the impacts on historic properties and summarize the status of consultations under section 106.

⁶ The Advisory Council on Historic Preservation regulations are at Title 36, Code of Federal Regulations, Part 800. Those regulations define historic properties as any prehistoric or historic district, site, building, structure, or object included in or eligible for inclusion in the National Register for Historic Places.

Currently Identified Environmental Issues

We have already identified several issues that we think deserve attention based on a preliminary review of the planned facilities and the environmental information provided by NEXUS and Texas Eastern. This preliminary list of issues may change based on your comments and our analysis:

• Impacts on residents and property values in close proximity to the planned pipeline and compressor station sites, including the exercise of eminent domain and future land use restrictions;

• impacts on agricultural land, particularly from constructing across drain-tiled land;

• impacts on surface water resources including springs, seeps, and wetlands;

• impacts on groundwater resources and wells;

• impacts on threatened, endangered, and candidate species (including the Indiana bat, northern long-eared bat, and eastern massasauga) and other sensitive species (including the eastern hellbender);

• safety issues, such as construction and operation of the planned facilities near existing residences, schools, and businesses;

• socioeconomic issues, such as job creation; and

• alternatives, including routing to avoid or minimize impacts on Oak Openings, fruit farms, a Girl Scout Camp, soccer fields used by the Green Soccer Association, and a southern route to avoid residential areas in and around the City of Green, Ohio.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before the end of the scoping period, which will close on May 22, 2015. This is not your only public input opportunity; please refer to the Environmental Review Process flow chart in Appendix 2.

For your convenience, there are three methods you can use to submit your comments to the Commission. In all instances, please reference the appropriate project docket number(s) (PF15-10-000 for the NEXUS Project or PF15-11-000 for the TEAL Project) with your submission. The Commission encourages electronic filing of comments and has expert staff available to assist you at (202) 502-8258 or efiling@ferc.gov.

(1) You can file your comments electronically using the eComment feature located on the Commission's Web site (www.ferc.gov) under the link to Documents and Filings. This is an easy method for interested persons to submit brief, text-only comments on a project;

(2) You can file your comments electronically using the eFiling feature located on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the projects. We will update the environmental mailing list as the analysis proceeds to ensure that we send the information related to this environmental review to all individuals, organizations, and government entities interested in and/or potentially affected by the planned projects.

Copies of the completed draft EIS will be sent to the environmental mailing list for public review and comment. If you would prefer to receive a paper copy of the document instead of the CD version or would like to remove your name from the mailing list, please return the attached Information Request (Appendix 3).

Becoming an Intervenor

Once NEXUS and Texas Eastern file applications with the Commission, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site. Please note that the Commission will not accept requests for intervenor status at this time. You must wait until the Commission receives a formal application for the Project.

Additional Information

Additional information about the Project is available from the Commission's Office of External Affairs, at (866) 208-FERC, or on the FERC Web site (www.ferc.gov) using the eLibrary link. Click on the eLibrary link, click on “General Search” and enter the docket number, excluding the last three digits in the Docket Number field (i.e., PF15-10 or PF15-11). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: April 8, 2015.
Kimberly D. Bose,
Secretary.

[FR Doc. 2015-08560 Filed 4-14-15; 8:45 am]

BILLING CODE 6717-01-P